DEPARTMENT OF COMMERCE

National Oceanic and Atmospheric Administration

50 CFR Parts 600 and 660

[Docket No. 001226367-0367-01; I.D. 121500E]

Magnuson-Stevens Act Provisions; Pacific Coast Groundfish Fishery; Annual Specifications and Management Measures; Corrections

AGENCY: National Marine Fisheries Service (NMFS), National Oceanic and Atmospheric Administration (NOAA), Commerce.

ACTION: Corrections to the 2001 specifications for the Pacific Coast groundfish fishery.

SUMMARY: This document contains corrections to the 2001 groundfish fishery specifications and management measures for the Pacific Coast groundfish fishery, which were published on January 11, 2001 and amended at 66 FR 10211 (February 14, 2001), at 66 FR 18409 (April 9, 2001), and at 66 FR 22467 (May 4, 2001).

DATES: Effective May 4, 2001.

FOR FURTHER INFORMATION CONTACT: Yvonne deReynier or Becky Renko, NMFS,(206) 526-6140.

SUPPLEMENTARY INFORMATION:

Background

The 2001 fishery specifications and management measures for groundfish taken in the U.S. exclusive economic zone and state waters off the coasts of Washington, Oregon, and California, as authorized by the Pacific Coast Groundfish Fishery Management Plan, were published in the Federal Register on January 11, 2001 (66 FR 2338), and amended at 66 FR 10211 (February 14, 2001), at 66 FR 18409 (April 9, 2001), and at 66 FR 22467 (May 4, 2001). Table 4, 2001 Trip Limits for Limited Entry Fixed Gear, in the specifications contained errors in the limits for Minor shelf rockfish, canary rockfish, and Bocaccio, South of 34° 27′ N. lat. (Pt. Conception). This document corrects these errors and republishes Table 4 in its entirety.

Corrections

In the rule FR Doc. 01-11297, in the issue of Friday, May 4, 2001, (66 FR 22467), make the following corrections:

1. Table 4 is corrected and republished in its entirety to read as follows:

BILLING CODE 3510-22-S

Dated: May 18, 2001.
Clarence Pautzke,
Acting Assistant Administrator for Fisheries, National Marine Fisheries Service.

[FR Doc. 01-13078 Filed 5-23-01; 8:45 am]

BILLING CODE 3510-22-C